DEPARTMENT OF COMMERCE

Bureau of Industry and Security

Acton Affecting Export Privileges; Undivision Technology, Inc.; In the Matter of: Univision Technology, Inc., 764 Violet Circle, Naperville, IL 60540, Respondent; Order Relating to Univision Technology, Inc.

The Bureau of Industry and Security, U.S. Department of Commerce (“BIS”) has notified Univision Technology, Inc. (hereinafter referred to as “Univision”) of its intention to initiate an administrative proceeding against Univision pursuant to Section 766.3 of the Export Administration Regulations (currently codified at 15 CFR parts 730-774 (2006)) (“Regulations”) ¹ and Section 13(c) of the Export Administration Act of 1979, as amended (50 U.S.C. app. 2401-2420 (2000)) (“Act”),² by issuing a proposed charging letter to Univision that alleged that Univision committed twelve violations of the Regulations. Specifically, the charges are:

¹ The charged violations occurred between 2000 and 2002. The Regulations governing the violations at issue are found in the 2000 through 2002 versions of the Code of Federal Regulations (15 CFR parts 730-774 (2000-2002)). The 2006 Regulations set forth the procedures that apply to this matter.

² From August 21, 1994 through November 12, 2000, the Act was in lapse. During that period, the President, through Executive Order 12924, which, itself, was extended by successive Presidential Notices, the last of which was August 3, 2000 (3 CFR, 2000 Comp. 397 (2001)), continued the Regulations in effect under the International Emergency Economic Powers Act (50 U.S.C. 1701-1706 (2000)) (“IEEPA”). On November 13, 2000, the Act as reauthorized by Pub. L. 106-508 (114 Stat. 2360 (2000)) and it remained in effect through August 20, 2001. The Act lapsed on August 21, 2001 and the President, through Executive Order 13222 of August 17, 2001 (3 CFR, 2001 Comp. 783 (2002)), which has been extended by successive Presidential Notices, the most recent being that of August 3, 2006 (71 FR 44551 (August 7, 2006)), has continued the Regulations in effect under the IEEPA.

Charges 1-5: 15 CFR 764.2(a): Exporting Items Without the Required Department of Commerce Licenses: On five occasions between on or about August 25, 2000, and on or about July 2001, Univision engaged in conduct prohibited by the Regulations by exporting electronic equipment, including microwave transistors, microwave amplifiers, and related equipment, items subject to the Regulations and classified under Export Control Classification Number 3A001, from the United States to the People's Republic of China (“China”), without obtaining licenses from the Department of Commerce as required by Section 742.4 of the Regulations. In so doing, Univision committed five violations of Section 764.2(b) of the Regulations.

Charges 6-10: 15 CFR 764.2(e): Acting With Knowledge That a Violation of the Regulations Was About to Occur: In connection with the transactions referenced in Charges One through Five above, Univision ordered or transferred items, including microwave transistors, microwave amplifiers, and related equipment, that were to be exported from the United States with knowledge that violations of the Regulations would occur. Specifically, Univision was informed by its suppliers and others that the aforementioned items required export licenses. As such, Univision, at all relevant times, knew that the items required licenses if exported to China and that no such licenses would be obtained. In doing so, Univision committed five violations of Section 764.2(e) of the Regulations.

Charges 11-12: 15 CFR 764.2(a): Failure to File Shipper's Export Declarations: On two occasions, through on or about August 30, 2000, and on or about September 21, 2000, in connection with two exports to China of items subject to the Regulations, Univision refrained from engaging in conduct required by the Regulations when it failed to file Shipper's Export Declarations (“SEDs”) with the U.S. Government. Section 758.1 of the Regulations as in effect on the dates of the applicable exports, required that SEDs be filed with the U.S. Government for the export of any item subject to the Regulations valued at greater than $2,500. The electronic equipment, including microwave transistors, microwave amplifiers, and related equipment, described above each had a value greater than $2,500. In failing to file required SEDs, Univision committed two violations of Section 764.2(a) of the Regulations.

Whereas, BIS and Univision have entered into a Settlement Agreement pursuant to Section 766.18(a) of the Regulations whereby they agreed to settle this matter in accordance with the terms and conditions set forth therein, and

Whereas, I have approved the terms of such Settlement Agreement;

It is Therefore Ordered:

First, that for a period of ten years from the date of entry of this Order, Univision Technology, Inc. of 764 Violet Circle, Naperville, IL 60540, its successors or assigns, and when acting for or on behalf of Univision, its officers, representatives, agents, or employees (“Denied Person”) may not, directly or indirectly, participate in any way in any transaction involving any commodity, software, or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item export or to be exported from the United States that is subject to the Regulations, or in any other activity subject to the Regulations; or

C. Benefitting in any way from any transaction involving any item exported or to be exported from the United States that is subject to the Regulations, or in any other activity subject to the Regulations.

Second, that no person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Third, that, after notice and opportunity for comment as provided in Section 766.23 of the Regulations, any person, firm, corporation, or business organization related to Univision by affiliation, ownership, control, or position of responsibility in the conduct of trade or related services may also be made subject to the provisions of the Order.

Fourth, that this Order does not prohibit any export, reexport, or other transaction subject to the Regulations where the only items involved that are subject to the Regulations are the foreign-produced direct product of U.S.-original technology.

Fifth, that the proposed charging letter, the Settlement Agreement, and this Order shall be made available to the public.

Sixth, that this Order shall be served on the Denied Person and on BIS, and shall be published in the Federal Register.

This Order, which constitutes the final agency action in this matter, is effective immediately.

Entered this 7th day of September 2006.
Darryl W. Jackson,
Assistant Secretary of Commerce for Export Enforcement.

[FR Doc. 06-7704 Filed 9-14-06; 8:45 am]

BILLING CODE 3510-DT-M